DEPARTMENT OF COMMERCE

Foreign-Trade Zones Board

[B-64-2018]

Foreign-Trade Zone (FTZ) 119—Minneapolis-St. Paul, Minnesota; Authorization of Production Activity; AGCO Corporation; Subzone 119M; (Agricultural Equipment and Related Subassemblies and Components); Jackson and Round Lake, Minnesota

On October 11, 2018, AGCO Corporation, operator of Subzone 119M, submitted a notification of proposed production activity to the FTZ Board for its facility within Subzone 119M, in Jackson and Round Lake, Minnesota.

The notification was processed in accordance with the regulations of the FTZ Board (15 CFR part 400), including notice in the Federal Register inviting public comment (83 FR 54314-54315, October 29, 2018). On March 20, 2019, the applicant was notified of the FTZ Board's decision that no further review of the activity is warranted at this time. The production activity described in the notification was authorized, subject to the FTZ Act and the FTZ Board's regulations, including Section 400.14. The authorization was further subject to a restriction requiring that textile-reinforced rubber hoses, textile-reinforced rubber conveyor belts, textile-reinforced rubber transmission belts, gaskets of textile materials, textile sound absorbers, safety belts of fabric, fabric-reinforced cab isolators, headliners incorporating fabric, windscreens of fabric, sound suppressors incorporating fabric, sun visors of fabric, and seats with fabric surfaces be admitted to the subzone in privileged foreign status (19 CFR 146.41).

Dated: March 20, 2019.
Andrew McGilvray,
Executive Secretary.

[FR Doc. 2019-05731 Filed 3-25-19; 8:45 am]

BILLING CODE 3510-DS-P